DEPARTMENT OF TRANSPORTATION

Federal Transit Administration

Transit Bus Manufacturer Public Roundtable

AGENCY: Federal Transit Administration (FTA), Department of Transportation (DOT).

ACTION: Notice of public meeting.

SUMMARY: The Federal Transit Administration (FTA) will hold a public roundtable meeting concerning bus operator visibility. Transit bus manufacturers will present their research and actions to improve bus operator visibility through vehicle design. This roundtable will be a forum for discussion of bus safety design elements that impact operator visibility, including mirror size and placement and A-pillar design. Participants will also discuss opportunities for manufacturers to standardize safety features. The meeting will include time for public comment.

DATES: The roundtable will be held on September 10, 2024, from 2 p.m. to 4 p.m. ET.

ADDRESSES: The roundtable will be held virtually. Those interested in attending this public meeting should register in advance at https://usdot.zoomgov.com/meeting/register/vJIsdOuvrDwtHSeycO2VVrd1wuPG9px721o. Access information and codes will be provided to those groups and interested members of the public who register for the event. The total number of participants in the virtual roundtable will be limited to the maximum allowed by the live webcast platform. The meeting will be recorded, and the recording will be placed on FTA's website at https://www.transit.dot.gov/TSOWebinars.

FOR FURTHER INFORMATION CONTACT: For information on the roundtable meeting, contact Ethan Novak, Office of Transit Safety and Oversight, FTA, by telephone at (202) 366-1662 or ethan.novak@dot.gov. Office hours are from 8 a.m. to 5 p.m., Monday through Friday, except Federal holidays.

SUPPLEMENTARY INFORMATION:

I. Background

FTA is holding a public roundtable to better understand how bus manufacturers consider bus operator visibility in bus design. This meeting is intended for bus manufacturers and other stakeholders interested in improving bus operator visibility through vehicle design. The roundtable meeting is open to the public.

Joseph P. DeLorenzo,
Associate Administrator for Transit Safety and Oversight.

[FR Doc. 2024-18098 Filed 8-13-24; 8:45 am]

BILLING CODE 4910-57-P